DEPARTMENT OF AGRICULTURE

Submission for OMB Review; Comment Request

The Department of Agriculture will submit the following information collection requirement(s) to OMB for review and clearance under the Paperwork Reduction Act of 1995, Public Law 104-13 on or after the date of publication of this notice. Comments are requested regarding: Whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology Comments regarding these information collections are best assured of having their full effect if received by March 25, 2022. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Agricultural Marketing Service

Title: Farm, Food Workers Relief Grant Program.

OMB Control Number: 0581-0331.

Summary of Collection: The Consolidated Appropriations Act, 2021 (Pub. L. 116-260) directed the Secretary of Agriculture to provide “grants and loans to small or midsized food processors or distributors, seafood processing facilities and processing vessels, farmers markets, producers, or other organizations to respond to coronavirus, including for measures to protect workers against the Coronavirus Disease 2019 (COVID-19).” FFWR is authorized pursuant to Title VII, subtitle B, section 751 of the Consolidated Appropriations Act, 2021 in response to the ongoing COVID-19 pandemic and the need for worker protections. USDA AMS requests to collect information for this new grant program from grant applicants, including state agencies, tribal entities and non-profit organizations working to support farm workers, meatpacking workers, and grocery workers.

Need and Use of the Information: The information collected from respondents is for application to this voluntary, competitive grant program. The information collected is used only by authorized representatives of USDA, AMS, Transportation and Marketing Program's Grants Division to determine applicant eligibility and the data collected is the minimum information necessary to effectively carry out the program requirements.

Description of Respondents: State, Local, and Tribal Governments.

Number of Respondents: 40.

Frequency of Responses: Reporting: Annually.

Total Burden Hours: 1,726.

Dated: February 17, 2022.
Levi S. Harrell,
Departmental Information Collection Clearance Officer.

[FR Doc. 2022-03817 Filed 2-22-22; 8:45 am]

BILLING CODE 3410-02-P